DEPARTMENT OF DEFENSE

Department of the Air Force

Privacy Act of 1974; System of Records

AGENCY: Department of the Air Force, DoD.

ACTION: Notice to amend systems of records.

SUMMARY: The Department of the Air Force is amending four systems of records notices in its existing inventory of record systems subject to the Privacy Act of 1974, (5 U.S.C. 552a), as amended.

DATES: This proposed action will be effective without further notice on June 9, 2003, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: April 30, 2003.
Patricia L. Toppings,
Alternate OSD Federal Register Liaison Officer, Department of Defense.

F036 AFPC H

System Name:

Medical Opinions on Board for Correction of Military Records Cases (BCMR) (June 11, 1997, 62 FR 31793).

Changes:

* * * * *

System Location:

Delete entry and replace with ‘Headquarters Air Force Personnel Center, Superintendent, Medical Accessions and Personnel Programs (DPAMF2), Medical Service Officer Management Division, 550 C Street West, Suite 25, Randolph Air Force Base, TX 78150-4727.’

* * * * *

System Manager(s) and Address:

Delete entry and replace with ‘Superintendent, Medical Accessions and Personnel Programs (DPAMF2), Medical Service Officer Management Division, Headquarters Air Force Personnel Center, 550 C Street West, Suite 25, Randolph Air Force Base, TX 78150-4727.’

* * * * *

F036 AFPC H

System Name:

Medical Opinions on Board for Correction of Military Records Cases (BCMR).

System Location:

Headquarters Air Force Personnel Center, Superintendent, Medical Accessions and Personnel Programs (DPAMF2), Medical Service Officer Management Division, 550 C Street West, Suite 25, Randolph Air Force Base, TX 78150-4727.

Categories of Individuals Covered by the System:

Files are maintained on individuals making application to the Air Force Board for Correction of Military Records on which a medical opinion has been rendered.

Categories of Records in the System:

Contains a copy of the medical advisory opinion rendered on Air Force Board for Correction of Military Records.

Authority for Maintenance of the System:

10 U.S.C. 8013, Secretary of the Air Force and 10 U.S.C. 79, Correction of Military Records; as implemented by Air Force Instruction 36-2603, Air Force Board for Correction of Military Records.

Purpose(s):

A historical reference, by name, to previous action taken regarding a specific BCMR application.

Routine Uses of Records Maintained in the System, Including Categories of Users and the Purposes of Such Uses:

In addition to those disclosures generally permitted under 5 U.S.C. 552a(b) of the Privacy Act, these records, or information contained therein, may specifically be disclosed outside the DOD as a routine use pursuant to 5 U.S.C. 552a(b)(3) as follows:

The DoD ‘Blanket Routine Uses’ published at the beginning of the Air Force’s compilation of systems of records notices apply to this system.

Policies and Practices for Storing, Retrieving, Accessing, Retaining, and Disposing of Records in the System:

Storage:

Maintained in file folders in filing cabinets.

Retrievability:

Retrieved by name.

Safeguards:

Records are accessed by person(s) responsible for servicing the record system in performance of their official duties and by authorized personnel who are properly screened and cleared for need-to-know. Records are stored in cabinets and locked rooms.

Retention and Disposal:

Retained in office files for one year or until no longer needed for reference, then destroyed by tearing into pieces, shredding, pulping, macerating, or burning.

System Manager(s) and Address:

Superintendent, Medical Accessions and Personnel Programs (DPAMF2), Medical Service Officer Management Division, Headquarters Air Force Personnel Center, 550 C Street West, Suite 25, Randolph Air Force Base, TX 78150-4727.

Notification Procedure:

Individuals seeking to determine whether this system of records contains information on themselves should address written inquiries to the Superintendent, Medical Accessions and Personnel Programs (DPAMF2), Medical Service Officer Management Division, Headquarters Air Force Personnel Center, 550 C Street West, Suite 25, Randolph Air Force Base, TX 78150-4727.

RECORD ACCESS PROCEDURES:

Individuals seeking to access records about themselves contained in this system should address written requests to the Superintendent, Medical Accessions and Personnel Programs (DPAMF2), Medical Service Officer Management Division, Headquarters Air Force Personnel Center, 550 C Street West, Suite 25, Randolph Air Force Base, TX 78150-4727.

CONTESTING RECORD PROCEDURES:

The Air Force rules for accessing records, and for contesting contents and appealing initial agency determinations are published in Air Force Instruction 37-132; 32 CFR part 806b; or may be obtained from the system manager.

RECORD SOURCE CATEGORIES:

Information obtained from medical institutions.

EXEMPTIONS CLAIMED FOR THE SYSTEM:

None.

F036 AFPC G

SYSTEM NAME:

Medical Officer Personnel Utilization Records (June 11, 1997, 62 FR 31793).

Changes:

* * * * *

CATEGORIES OF RECORDS IN THE SYSTEM:

Delete ‘Air Force Manpower and Personnel Center (AFMPC) Form 8’ and ‘Air Force Manpower and Personnel Center (AFMPC) Form 138’.

AUTHORITY FOR THE MAINTENANCE OF THE SYSTEM:

Delete entry and replace with ‘10 U.S.C. 8013, Secretary of the Air Force; as implemented by Air Force Instruction 36-2105, Officer Classification; Air Force Instruction 41-109, Special Pay for Health Professionals; Air Force Instruction 36-2610, Appointing Regular Air Force Officers and Obtaining Conditional Reserve Status; Air Force Instruction 36-2110, Assignments; Air Force Instruction 36-2504, Officer Promotion, Continuation and Selective Early Removal in the Reserve of the Air Force; Air Force Instruction 36-2107, Active Duty Service Commitments; and Air Force Instruction 36-2133, Specified Period of Time Contracts (SPTC).’

* * * * *

F036 AFPC G

SYSTEM NAME:

Medical Officer Personnel Utilization Records.

SYSTEM LOCATION:

Headquarters Air Force Personnel Center, Deputy Director, Medical Service Officer Management Division, 550 C Street West, Suite 25, Randolph Air Force Base, TX 78150-4727.

CATEGORIES OF INDIVIDUALS COVERED BY THE SYSTEM:

All Air Force active duty medical service officers.

CATEGORIES OF RECORDS IN THE SYSTEM:

Personnel Utilization records containing: Career briefs; Print-outs; Letters from individuals; Letters from Utilization Branch to individuals Letters concerning medical service education and training; Copy of application for Indefinite Reserve Status; Copy of request to join spouse; Copy of Specified Period of Time Contract (SPTC) requests; Assignment/Actions Worksheet; Officer Reassignment; Memorandum of Official Contact; Officer Career Objective Statement; Personnel Action Request; Application for Appointment in the AF Reserve; Recall to Active Duty; Supplement to Application for Commission in the United States Air Force (U.S.) Medical Services; Assignment Notification of Medical Service Officer; Constructive Credit Computation; Personal Interview-USAF Nurse Application; Air Force Institute of Technology (AFIT) Education Plan; Messages; Department of Defense Notification of change in service members official records; Master Personnel Record Fiche; Training/Specialty Board Certification Records; Continuation Pay Contracts; Specialty Badge Award; Personnel Data Systems (PDS) transactions; Record of Office of Special Investigations (OSI) background checks; Resumes/special applications.

AUTHORITY FOR MAINTENANCE OF THE SYSTEM:

10 U.S.C. 8013, Secretary of the Air Force; as implemented by Air Force Instruction 36-2105, Officer Classification; Air Force Instruction 41-109, Special Pay for Health Professionals; Air Force Instruction 36-2610, Appointing Regular Air Force Officers and Obtaining Conditional Reserve Status; Air Force Instruction 36-2110, Assignments; Air Force Instruction 36-2504, Officer Promotion, Continuation and Selective Early Removal in the Reserve of the Air Force; Air Force Instruction 36-2107, Active Duty Service Commitments; and Air Force Instruction 36-2133, Specified Period of Time Contracts (SPTC).

PURPOSE(S):

Verify current assignment; verify history of application for: Tour extension, tour curtailment, Specified Period of Time Contract, Indefinite Reserve Status, duty Air Force specialty code change, special duty application, formal school application, change of assignment reporting dates, join spouse application; Use AF Form 24 for obtaining date of birth and place of birth when processing assignment to academy or other highly sensitive area of assignment; to hold messages pertaining to assignment; to hold action notices and career briefs as a result of input from original office and any other office pertaining to an individual. This also includes career briefs and action notices from automatic actions (i.e., available assignment); pay computation; grade computation; to provide background information to answer correspondence.

ROUTINE USES OF RECORDS MAINTAINED IN THE SYSTEM, INCLUDING CATEGORIES OF USERS AND THE PURPOSES OF SUCH USES:

In addition to those disclosures generally permitted under 5 U.S.C. 552a(b) of the Privacy Act, these records, or information contained therein, may specifically be disclosed outside the DOD as a routine use pursuant to 5 U.S.C. 552a(b)(3) as follows:

The DoD “Blanket Routine Uses” published at the beginning of the Air Force’s compilation of systems of records notices apply to this system.

POLICIES AND PRACTICES FOR STORING, RETRIEVING, ACCESSING, RETAINING, AND DISPOSING OF RECORDS IN THE SYSTEM:

Storage:

Maintained in visible file binders/cabinets, etc.

RETRIEVABILITY:

Retrieved by name.

SAFEGUARDS:

Records are accessed by custodian of the record system and by person(s) responsible for servicing the record system in performance of their official duties and who are properly screened and cleared for need-to-know. Records are stored in locked cabinets or rooms.

RETENTION AND DISPOSAL:

Retained in office files for six months after the individual terminates military service, then destroyed by tearing into pieces, shredding, pulping, macerating, or burning.

SYSTEM MANAGER(S) AND ADDRESS:

Deputy Director, Medical Service Officer Management Division, Headquarters Air Force Personnel Center, 550 C Street West, Suite 25, Randolph Air Force Base, TX 78150-4727.

NOTIFICATION PROCEDURE:

Individuals seeking to determine whether this system of records contains information on themselves should address written inquiries to the Deputy Director, Medical Service Officer Management Division, Headquarters Air Force Personnel Center, 550 C Street West, Suite 25, Randolph Air Force Base, TX 78150-4727.

RECORD ACCESS PROCEDURES:

Individuals seeking to access records about themselves contained in this system should address written requests to the Deputy Director, Medical Service Officer Management Division, Headquarters Air Force Personnel Center, 550 C Street West, Suite 25, Randolph Air Force Base, TX 78150-4727.

CONTESTING RECORD PROCEDURES:

The Air Force rules for accessing records, and for contesting contents and appealing initial agency determinations are published in Air Force Instruction 37-132; 32 CFR part 806b; or may be obtained from the system manager.

RECORD SOURCE CATEGORIES:

Applications for appointment, letters written by individual or on individuals by others. Computer print-outs, forms completed by individuals, Personnel Data Systems (PDS) transactions, other information pertinent to assignments or career development of the officer.

EXEMPTIONS CLAIMED FOR THE SYSTEM:

None.

F036 AFPC P

SYSTEM NAME:

Separation Case Files (Officer and Airman) (June 11, 1997, 62 FR 31793).

Changes:

* * * * *

System Location:

Delete “Military”; before “Randolph” add “550 C Street West,”; after “Air Reserve Personnel Center” add “6760 East Irvington Place”.

Authority for Maintenance of the System:

Replace ‘Air Force Regulation 36-2, Administrative Discharge Procedures (For Sub-standard Performance of Duty, Misconduct, Moral or Professional Dereliction, or in the Interest of National Security); 36-12, Administrative Separation of Commissioned Officers; and 39-10, Administrative Separation of Airmen’ with ‘Air Force Instruction 36-3206, Administrative Discharge Procedures For Commissioned Officers; 36-3207, Separating Commissioned Officers; and 36-3208, Administrative Separation of Airmen.’

* * * * *

F036 AFPC P

System Name:

Separation Case Files (Officer and Airman).

System Location:

Air Force Military Personnel Center, 550 C Street West, Randolph Air Force Base, TX 78150-6001. National Personnel Records Center, Military Personnel Records Center, Military Personnel Records, 9700 Page Boulevard, St. Louis, MO 63132-5000. Air Reserve Personnel Center, 6760 East Irvington Place, Denver, CO 80280-5000. Duplicate copies may be retained temporarily at each level requiring review or action on the case.

Categories of Individuals Covered by the System:

Officers and Airmen who have requested voluntary separation, who have been recommended or identified for involuntary separation under 10 U.S.C. 617(b) (including Reserve officers as a matter of Air Force Policy). Individuals who, under Pub. L. 95-202, Section 401, have requested review of service performed with the Army Air Force or U.S. Air Force to determine if such service was equivalent to active duty for purposes of laws administered by the Department of Veterans Affairs.

Categories of Records in the System:

Member's application, letter from commander initiating separation action with endorsements, supporting documents, and record of final action take. If congressional inquiry involved, request for information and reply provided is also filed by those offices involved.

Authority for Maintenance of the System:

10 U.S.C. Chapter 59, Separations, 10 U.S.C. Chapter 36, Promotion, Separation and Involuntary Retirement of Officer on the Active-Duty List, Chapter 60, Separation of Regular Officers for Substandard Performance of Duty or for Certain Other Reasons, and 38 U.S.C., Veteran's Benefits; as implemented by Air Force Instruction 36-3206, Administrative Discharge Procedures For Commissioned Officers; 36-3207, Separating Commissioned Officers; and 36-3208, Administrative Separation of Airmen.

Purpose(s):

The original document is retained as a permanent record of action taken. The duplicate copies are retained to provide a temporary record of actions being taken for responding to inquiries concerning the status of a particular case. Occasionally, a case file is retained as a precedence file for later reference in revising separation directives.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

Individual case files may be released to a governmental body or agency or health care professional society or organization if such record is needed to perform licensing or professional standards monitoring related to credentialed health care practitioners or licensed, non-credentialed health care personnel who are or were formerly members of the Armed Forces. Case files may also be released to medical institutions or organizations wherein such member has applied for or been granted authority or employment to provide health care services if such record is needed to assess the professional qualifications of such member.

The DoD ‘Blanket Routine Uses’ published at the beginning of the Air Force's compilation apply to this system.

Policies and Practices for Storing, Retrieving, Accessing, Retaining, and Disposing of Records in the System:

Storage:

Maintained in visible file binders/cabinets.

Retrievability:

Retrieved by name. At National Personnel Records Center. Cases and correspondence are filed with Master Personnel Records. Transitory copies are filed alphabetically by general subject categories, i.e., involuntary officer separations, involuntary airman separations, etc.

Safeguards:

Records are accessed by custodian of the record system and by person(s) responsible for servicing the record system in performance of their official duties and by authorized personnel who are properly screened and cleared for need-to-know. Records are stored in locked rooms and cabinets. File cabinets and power files are secured during nonduty hours.

Retention and Disposal:

Master copies are retained permanently. Temporary files are disposed of within three years after final action is taken. Files are disposed of by shredding.

System Manager(s) and Address:

Chief, Retirements and Separations Division (DPPR), Headquarters Air Force Personnel Center, 550 C Street West, Suite 11, Randolph Air Force Base, TX 78150-4713.

Notification Procedure:

Individuals seeking to determine whether this system of records contains information on them should address inquiries to or visit the Retirements and Separations Division (DPPR), Headquarters Air Force Personnel Center, 550 C Street West, Suite 11, Randolph Air Force Base, TX 78150-4713.

Record Access Procedures:

Individuals seeking to access records about themselves contained in this system should address requests to the Retirements and Separations Division (DPPR), Headquarters Air Force Personnel Center, 550 C Street West, Suite 11, Randolph Air Force Base, TX 78150-4713.

Contesting Record Procedures:

The Air Force rules for accessing records, and for contesting contents and appealing initial agency determinations are published in Air Force Instruction 37-132; 32 CFR part 806b; or may be obtained from the system manager.

Record Source Categories:

Member's application, correspondence from unit commander's initiating separation action.

Exemptions Claimed for the System:

None.

F051 AFJA C

System Name:

Judge Advocate Personnel Records (June 11, 1997, 62 FR 31793).

Changes:

* * * * *

Categories of Individuals Covered by the System:

Delete entry and replace with ‘All Air Force active duty judge advocates and paralegals; Air Force civilian attorneys employed in classification series GS-905 and GS-1222 at Air Staff and AFLSA; active duty Air Force applicants for Funded Legal Education Program and Excess Leave Program, civilian employees and others with access to FLITE and other TJAG Department automated information systems.’

Categories of Records in the System:

Replace ‘Military Personnel Center’ with 1Air Force Personnel Center. After ‘computer data’ add ‘official and personal locator information; officer performance and training’. Add at the end of the entry ‘and Professional Development Information.’

* * * * *

Purpose(s):

Delete entry and replace with ‘Records for military members are used by the Judge Advocate General, Deputy Judge Advocate General, and Professional Development Division (AF/JAX) to determine assignments.

Records for civilian members are used by the Executive Secretary and members of Ad Hoc and Air Force Civilian Attorney Qualifying Committees in evaluating and selecting civilian attorneys for appointment to Air Force position vacancies and promotions. Funded Legal Education and Excess Leave Program records are used by the Judge Advocate General, Deputy Judge Advocate General, Professional Development (AF/JAX) personnel, and selection board members in monitoring, evaluating and selecting the best qualified applicants for the programs.’

Retrievability:

Add to the end of the entry ‘Social Security Number, duty location, rank, job series, and other personnel information.’

* * * * *

Record Source Categories:

After ‘Information’ add ‘obtained directly from the individual or’

* * * * *

F051 AFJA C

System Name:

Judge Advocate Personnel Records.

System Location:

Professional Development Division, Office of The Judge Advocate General, Headquarters United States Air Force, HQ USAF/JAX, 1420 Air Force Pentagon, Washington, DC 20330-1420. Office and personnel directory information is maintained at Air Force Legal Information Services Directorate, Air Force Legal Services (AFLSA/JAS), 150 Chennault Circle, Maxwell Air Force Base, AL 36112-6148.

Categories of Individuals Covered by the System:

All Air Force active duty judge advocates and paralegals; Air Force civilian attorneys employed in classification series GS-905 and GS-1222 at Air Staff and AFLSA; active duty Air Force applicants for Funded Legal Education Program and Excess Leave Program, civilian employees and others with access to FLITE and other TJAG Department automated information systems.

Categories of Records in the System:

Educational background; certificate of admission to the bar; career management questionnaire; career objective statement; active duty and reassignment orders; correspondence relating to the individual; Air Force Personnel Center computer data; official and personal locator information; officer performance and training; classification/on-the-job training actions; Judge Advocate General Reserve Personnel Questionnaire; Headquarters USAF active duty and attachment orders; training reports; authorizations for inactive duty training; civilian personal qualifications statement; notification of personnel actions; statement of good standing before the bar; transcript of law school record; statement of availability for Air Force civilian attorney vacancies; actions by Ad Hoc Selection Committee and Air Force Civilian Attorney Qualifying Committee; Judge Advocate interview; letter of acceptance from an American Bar Association accredited law school; application and agreement; LSDAS report; transcript of all undergraduate and graduate education, letters of recommendation, and Professional Development Information.

Authority for Maintenance of the System:

5 U.S.C. 3301, Civil service; generally; 10 U.S.C. 261, Reserve Components named; 806, Judge advocates and legal officers; 2004, Detail of commissioned officers of the military departments as students at law schools; 8072, Judge Advocate General: Appointment and duties; 62 Stat. 1014; Air Force Instruction 51-802, Assignment to the Judge Advocate General's Department Reserve; Air Force Instruction 36-2110, Assignments; and E.O. 10577.

Purpose(s):

Records for military members are used by the Judge Advocate General, Deputy Judge Advocate General, and Professional Development Division (AF/JAX) to determine assignments.

Records for civilian members are used by the Executive Secretary and members of Ad Hoc and Air Force Civilian Attorney Qualifying Committees in evaluating and selecting civilian attorneys for appointment to Air Force position vacancies and promotions. Funded Legal Education and Excess Leave Program records are used by the Judge Advocate General, Deputy Judge Advocate General, Professional Development (AF/JAX) personnel, and selection board members in monitoring, evaluating and selecting the best qualified applicants for the programs.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The DoD ‘Blanket Routine Uses’ published at the beginning of the Air Force's compilation of systems of records notices apply to this system.

Policies and Practices for Storing, Retrieving, Accessing, Retaining, and Disposing of Records in the System:

Storage:

Maintained in file folders, card files, in computers and on computer output products.

Retrievability:

Retrieved by name, Social Security Number, duty location, rank, job series, and other personnel information.

Safeguards:

Records are accessed by person(s) responsible for servicing the record system in performance of their official duties and by authorized personnel who are properly screened and cleared for need-to-know. Records are stored in locked rooms and cabinets. Those in computer storage devices are protected by computer system software.

Retention and Disposal:

Judge Advocate Officer Personnel records and Funded Legal Education and Excess Leave Program records are retained in office files for one year after the individual terminates military service, or until no longer needed for reference, then destroyed. Computer records are destroyed when the individual terminates military service. Other records: Retained in office files until superseded, obsolete, no longer needed for reference, or on inactivation. Records are destroyed by tearing into pieces, shredding, pulping, macerating or burning. Computer records are destroyed by erasing, deleting or overwriting.

System Manager(s) and Address:

Chief, Professional Development Division, Office of The Judge Advocate General, Headquarters United States Air Force, HQ USAF/JAX, 1420 Air Force Pentagon, Washington, DC 20330-1420.

Notification Procedure:

Individuals seeking to determine whether this system of records contains information on themselves should address written inquiries to or visit the Chief, Professional Development Division, Office of The Judge Advocate General, Headquarters United States Air Force, HQ USAF/JAX, 1420 Air Force Pentagon, Washington, DC 20330-1420.

Full name and Social Security Number should be furnished.

Record Access Procedures:

Individuals seeking access to records about themselves contained in this system should address written requests to or visit the Chief, Professional Development Division, Office of The Judge Advocate General, Headquarters United States Air Force, HQ USAF/JAX, 1420 Air Force Pentagon, Washington, DC 20330-1420.

Visits may be made to HQ USAF/JAX, Pentagon, Washington, DC 20330-5000. Valid identification card, driver's license or equivalent must be presented.

Contesting Record Procedures:

The Air Force rules for accessing records, and for contesting contents and appealing initial agency determinations are published in Air Force Instruction 37-132; 32 CFR part 806b; or may be obtained from the system manager.

Record Source Categories:

Information obtained directly from the individual or obtained from previous employers, educational institutions, automated system interfaces, state or local governments, source documents, and from Air Reserve Personnel Center.

Exemptions Claimed for the System:

None.

[FR Doc. 03-11580 Filed 5-8-03; 8:45 am]

BILLING CODE 5001-08-P